DEPARTMENT OF TRANSPORTATION

Federal Railroad Administration

Notice of Application for Approval of Discontinuance or Modification of a Railroad Signal System or Relief From the Requirements of Title 49 Code of Federal Regulations Part 236

Pursuant to title 49 Code of Federal Regulations (CFR) part 235 and 49 U.S.C. 20502(a), the following railroad has petitioned the Federal Railroad Administration (FRA) seeking approval for the discontinuance or modification of a signal system, or relief from the requirements of 49 CFR part 236 as detailed below.

Docket Number FRA-2008-0134

Applicant: Southern California Regional Rail Authority, Mr. Darrell J. Maxey, P. E., Director, Engineering and Construction, 700 S. Flower Street, 26th Floor, Los Angeles, California 90017.

The Southern California Regional Rail Authority (SCRRA) seeks relief from the requirements of the Rules, Standards, and Instructions, title 49 CFR part 236, section 236.504, Operation interconnected with automatic block-signal system; and Section 236.566, Locomotive of each train operating in train stop, train control, or cab signal territory equipped.

The application seeks approval to expand the locations of the intermittent inert ATS inductor territory both within the Orange Subdivision and beyond the Orange and River Subdivision to SCRRA's four other Subdivisions with passenger operations. SCRRA is proposing to modify the previous ATS/BNSF criteria for installing inert ATS inductors on the approach to 4 degree or greater curves. The new criteria would be to install inert inductors in approach of 20 miles per hour (mph) or greater permanent speed reductions. Freight train locomotives would not be equipped per the current operating convention.

The new criteria would result in the following additional 43 inert ATS inductor installations for eastward and westward movements:

Valley Subdivision—14 (7 West and 7 East).

Ventura Subdivision—4 (2 West and 2 East).

Olive Subdivision—1 (1 East).

San Gabriel Subdivision—12 (7 West and 5 East).

Orange Subdivision—12 (7 West and 5 East).

Applicant's justification for relief: SCRRA feels that the justification for installing additional inert inductors is as follows:

1. Provides increased situational awareness for passenger train engine men approaching (20 mph or greater) civil speed reductions.

2. Compatible with existing SCRRA and Amtrak passenger train ATS equipped fleet.

3. Wayside inert ATS inductors can be designed, procured, and installed in 9 months or less.

4. Minimal changes required to existing SCRRA operating practices.

5. Simplified design, procurement and installation process allows SCRRA resources to be devoted to deploying Positive Train Control (PTC).

6. Inert inductors can be easily removed when PTC with active civil speed enforcement is deployed.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

Any interested party desiring to protest the granting of an application shall set forth specifically the grounds upon which the protest is made, and it shall contain a concise statement of the interest of the party in the proceeding. Additionally, one copy of the protest shall be furnished to the applicant at the address listed above.

All communications concerning these proceedings should be identified by Docket Number FRA-2008-0134 and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on November 25, 2008.
Grady C. Cothen, Jr.,
Deputy Associate Administrator for Safety Standards and Program Development.

[FR Doc. E8-28568 Filed 12-1-08; 8:45 am]

BILLING CODE 4910-06-P